DEPARTMENT OF DEFENSE

Department of the Army

Privacy Act of 1974; System of Records

AGENCY: Department of the Army, DoD.

ACTION: Notice to alter a system of records.

SUMMARY: The Department of the Army is proposing to alter a system of records notice in its existing inventory of records systems subject to the Privacy Act of 1974, (5 U.S.C. 552a), as amended.

DATES: This proposed action will be effective without further notice on December 20, 2004 unless comments are received which result in a contrary determination.

ADDRESSES: Department of the Army, Freedom of Information/Privacy Division, U.S. Army Records Management and Declassification Agency, Attn: AHRC-PDD-FPZ, 7701 Telegraph Road, Casey Building, Suite 144, Alexandria, VA 22325-3905.

FOR FURTHER INFORMATION CONTACT: Ms. Janice Thornton at (703) 428-6504.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on October 21, 2004, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: November 10, 2004.
Jeannette Owings-Ballard,
OSD Federal Register Liaison Officer, Department of Defense.

A0600-8-1c AHRC

System name:

Army Casualty Information Processing System (ACIPS) (January 6, 2004, 69 FR 790).

Changes:

* * * * *

System identifier:

Add “DoD” to the end of the entry.

System name:

Delete entry and replace with “Defense Casualty Information Processing System (DCIPS)”.

* * * * *

Categories of individuals covered by the system:

Delete entry and replace with “Department of Defense military personnel (active component and reserve component) and their family members; DoD civilian personnel, retired service members, non-DoD civilians, and other individuals that are reported as casualties.”

Categories of records in the system:

Delete entry and replace with “Individuals name, Social Security Number, date of birth, branch of service, organization, duty, military occupational specialty (MOS), Air Force Specialty Code (AFSC), Navy rate, rank, sex, race, religion, home of record, and other pertinent information; personnel records, health/dental records, correspondence with primary next of kin/secondary next of kin, inquiries from other agencies and individuals, DD Form 1300 (Report of Casualty).”

* * * * *

Purpose(s):

To provide DoD with a single joint military casualty information processing system; to provide support for the management of casualty and mortuary affairs by the Services Casualty and Mortuary Affairs Offices; to respond to inquiries; to provide statistical data comprising type, number, place and cause of incident to DoD Services' members.

* * * * *

Record source categories:

Delete entry and replace with “From casualty reports and investigations received from commander, medical personnel, medical examiners, and other related official sources.”

* * * * *

A0600-8-1c AHRC DoD

System name:

Defense Casualty Information Processing System (DCIPS).

System location:

U.S. Army Human Resources Command, 200 Stovall Street, Alexandria, VA 22332-0481.

Categories of individuals covered by the system:

Department of Defense military personnel (active component and reserve component) and their family members; DoD civilian personnel, retired service members, non-DoD civilians, and other individuals that are reported as casualties.

Categories of records in the system:

Individual's name, Social Security Number, date of birth, branch of service, organization, duty, military occupational specialty (MOS), Air Force Specialty Code (AFSC), Navy rate, rank, sex, race, religion, home of record, and other pertinent information; personnel records, health/dental records, correspondence with primary next of kin/secondary next of kin, inquiries from other agencies and individuals, DD Form 1300 (Report of Casualty).

Authority for maintenance of the system:

10 U.S.C. 3013, Secretary of the Army; 10 U.S.C. 5013, Secretary of the Navy; 10 U.S.C. 8013, Secretary of the Air Force; Army Regulation 600-8-1, Army Casualty Operations, Assistance, Insurance; Army Regulation 638-2, Care and Disposition of Remains and Disposition of Personal Effects; Army Regulation 600-8-4, Line of Duty Policy, Procedures, and Investigations; and E.O. 9397 (SSN).

Purpose(s):

To provide DoD with a single joint military casualty information processing system; to provide support for the management of casualty and mortuary affairs by the Services Casualty and Mortuary Affairs Offices; to respond to inquiries; to provide statistical data comprising type, number, place and cause of incident to DoD Services' members.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of the Army's compilation of systems of records notices also apply to this system.

Policies and practices for storing, retrieving, accessing, retaining, and disposing of records in the system:

Storage:

Paper records in file folders and on electronic storage media.

Retrievability:

By individual's name and/or Social Security Number or any other data element.

Safeguards:

All information is restricted to a secure area in buildings that employ security guards. Computer printouts and magnetic tapes and files are protected by password known only to properly screened personnel possessing special authorization for access.

Retention and disposal:

Records are permanent.

System manager(s) and address:

Commander, U.S. Army Human Resources Command, 200 Stovall Street, Alexandria, VA 22332-0481.

Notification procedure:

Individuals seeking to determine if information about themselves is contained in this record system should address written inquiries to the Commander, U.S. Army Human Resources Command, Attn: AHRC-PEC, 200 Stovall Street, Alexandria, VA 22332-0481.

Individual should provide full name, current address and telephone number, and should identify the person who is the subject of the inquiry by name, rank and Social Security Number or Service Number.

Record access procedures:

Individuals seeking access to records about themselves contained in this record system should address written inquiries to the Commander, U.S. Army Human Resources Command, Attn: AHRC-PEC, 200 Stovall Street, Alexandria, VA 22332-0481.

Individual should provide full name, current address and telephone number, and should identify the person who is the subject of the inquiry by name, rank and Social Security Number or Service Number.

Contesting record procedures:

The Army's rules for accessing records, and for contesting contents and appealing initial agency determinations are contained in Army Regulation 340-21; 32 CFR part 505; or may be obtained from the system manager.

Record source categories:

From casualty reports and investigations received from commander, medical personnel, medical examiners, and other related official sources.

Exemptions claimed for the system:

None.

[FR Doc. 04-25551 Filed 11-17-04; 8:45 am]

BILLING CODE 5001-06-P